DEPARTMENT OF JUSTICE

Notice of Lodging of Proposed Consent Decree Under the Comprehensive Environmental Response, Compensation, and Liability Act of 1980

On January 13, 2015, the Department of Justice lodged a proposed consent decree with the United States District Court for the District of New Jersey in the lawsuits entitled United States v. Pechiney Plastic Packaging, Inc., Civil Action No. 09-cv-05692 (PGS-TJB) and United States v. Bristol-Myers Squibb Co., et al., Civil Action No. 13-cv-05798 (PGS-TJB).

The proposed consent decree is between Plaintiff United States of America and the following Settling Defendants: Pechiney Plastic Packaging, Inc. (“PPPI”), Bristol-Myers Squibb Company, Myset Investment Company, Citigroup Inc., MRC Holdings, Inc., Rexam Beverage Can Company, Albéa Americas, Inc., and certain real property currently owned and operated by Albéa (referred to here as “Washington Facility”). Rio Tinto AUM is also a signatory to the consent decree and bound by certain paragraphs set forth in the agreement.

This consent decree would resolve the United States' claims under CERCLA against the Settling Defendants arising from the Pohatcong Valley Groundwater Contamination Superfund Site located in Warren County, New Jersey (“Site”). The Site consists of an area of two plumes of groundwater contamination (one that is contaminated primarily with trichloroethylene (“TCE plume”) and another that is contaminated primarily with tetrachloroethylene (“PCE plume”), that join into a combined plume) which EPA has divided into three Operable Units (“OUs”). OU1 addresses groundwater contamination in two areas within Washington Borough and neighboring townships. OU2 addresses groundwater contamination down-gradient from OU1. OU3 consists of contaminated soil source areas in the OU1 area.

The proposed consent decree provides that PPPI will perform the portion of the OU1 Remedial Design and Remedial Action that addresses the TCE Plume (as set forth in the OU1 Unilateral Administrative Order), the OU2 Remedial Action, a vapor intrusion Removal Action at the Washington Facility, and the OU3 Remedial Design and Remedial Action for the portion of OU3 that lies within the geographic boundaries of the Washington Facility. The United States and Settling Defendants have reserved their rights as to legal responsibility for the remediation of the portion of OU3 outside the boundaries of the Washington Facility. PPPI will also perform a Supplemental Environmental Project involving the preservation and restoration of approximately 60 acres of land in Warren County. The dollar value of the settlement is estimated at $95 million with $32.5 million in recovery of past and interim costs, $61.4 million in future costs, $281,899 in civil penalties and the Supplemental Environmental Project valued at $1.149 million.

The Consent Decree includes covenants not to sue by the United States under Sections 106 and 107 of the Comprehensive Environmental Response, Compensation and Liability Act, 42 U.S.C. 9601 et seq. (“CERCLA”), and under Section 7003 of the Resource Conservation and Recovery Act (“RCRA”), 42 U.S.C. 6973.

The publication of this notice opens a period for public comment on the consent decree. Comments should be addressed to the Assistant Attorney General, Environment and Natural Resources Division, and should refer to United States v. Pechiney Plastic Packaging, Inc. and United States v. Bristol-Myers Squibb Co., et al. D.J. Ref. Nos. 90-11-3-09051 & 90-11-3-09051/1. All comments must be submitted no later than thirty (30) days after the publication date of this notice. Commenters may request an opportunity for a public meeting in the affected area, in accordance with Section 7003(d) of RCRA. Comments may be submitted either by email or by mail:

To submit comments: | Send them to:
By email | pubcomment-ees.enrd@usdoj.gov.
By mail | Assistant Attorney General, U.S. DOJ—ENRD, P.O. Box 7611, Washington, D.C. 20044-7611.

During the public comment period, the consent decree may be examined and downloaded at this Justice Department Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check or money order for $74.25 (25 cents per page reproduction cost) payable to the United States Treasury. For a paper copy without the exhibits and signature pages, the cost is $20.00.

Maureen Katz,
Assistant Section Chief, Environmental Enforcement Section, Environment and Natural Resources Division.

[FR Doc. 2015-00674 Filed 1-16-15; 8:45 am]

BILLING CODE 4410-15-P